DEPARTMENT OF TRANSPORTATION

Federal Motor Carrier Safety Administration

[Docket No. FMCSA-2006-24555]

Establishment of the Uniform Carrier Registration Plan Board of Directors

AGENCY: Federal Motor Carrier Safety Administration (FMCSA), DOT.

ACTION: Notice.

SUMMARY: FMCSA announces establishment of a Board of Directors for the Unified Carrier Registration Plan mandated under the Safe, Accountable, Flexible, Efficient Transportation Equity Act: A Legacy for Users. The Board will be responsible for issuing rules and regulations to govern the Uniform Carrier Registration Agreement (UCR Agreement). The UCR Agreement is the replacement system for the Single State Registration System (SSRS) due to expire on January 1, 2007. The UCR Agreement will govern the collection and distribution of registration and financial responsibility information provided and fees paid by for-hire and private motor carriers, brokers, freight forwarders, and leasing companies. The Secretary of Transportation establishes the initial 15-member Board of Directors by direct appointment due to the imminent sunsetting of SSRS and the potential for significant loss of revenue to the 39 participating States if work is not completed prior to January 1, 2007. FMCSA plans to solicit in the Federal Register nominations for successor membership prior to expiration of terms of membership.

DATES: Initial appointments to the Board of Directors are effective beginning on June 1, 2006.

ADDRESSES: You may submit comments, identified by DOT DMS Docket Number FMCSA-2006-24555, by any of the following methods:

• Federal eRulemaking Portal: http://www.regulations.gov. Follow the instructions for submitting comments.

• Agency Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal Holidays.

Instructions: All submissions received must include the agency name and docket number for this notice. All comments received will be posted without change to http://dms.dot.gov, including any personal information provided. For detailed instructions on submitting comments and additional information on the rulemaking process, see the “Public Participation” heading of the SUPPLEMENTARY INFORMATION section of this document. For a summary of DOT's Privacy Act Statement or information on how to obtain a complete copy of DOT's Privacy Act Statement please see the “Privacy Act” heading.

Docket: For access to the docket to read background documents or comments received, go to http://dms.dot.gov at any time or to Room PL-401 on the plaza level of the Nassif Building, 400 Seventh Street, SW., Washington, DC, between 9 am and 5 pm, Monday through Friday, except Federal holidays.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION CONTACT: Mr. William Quade, (202) 366-2172, Director, Office of Safety Programs, Federal Motor Carrier Safety Administration, (MC-ES), 400 Seventh Street, SW., Washington, DC 20590-0001. Office hours are from 8 a.m. to 5 p.m., e.t., Monday through Friday except Federal holidays.

SUPPLEMENTARY INFORMATION: Public Participation: Section 4305 of SAFETEA-LU created a new 49 U.S.C. 14504a. Section 14504a(d)(9) exempts the Unified Carrier Registration Plan, the Board and its committees from the Federal Advisory Committee Act. Nonetheless, the Board of Directors plans to periodically publish information concerning its proceedings and decisions in the public docket. FMCSA welcomes comments on the appointment of members to the Board and other issues related to the UCR Agreement. DMS is available 24 hours each day, 365 days each year. You can get electronic submission and retrieval help and guidelines under the “help” section of the DMS web site. If you want us to notify you of receiving your comments, please include a self-addressed, stamped envelope or postcard or print the acknowledgement page that appears after submitting comments on-line.

Background

Section 4305 of SAFETEA-LU [Pub. L. 109-59, 119 Stat. 1144, August 10, 2005] created, under Title 49 U.S. Code, a new section 14504a titled “Unified Carrier Registration System plan and agreement.” Under the UCR Agreement, motor carriers, motor private carriers, brokers, freight forwarders, and leasing companies provide registration and financial responsibility information and pay certain fees. The Unified Carrier Registration Plan Board of Directors must issue rules and regulations to govern the UCR Agreement. Under the UCR Agreement, the USDOT Number will be the sole Federal identification number for all motor carriers. The UCR Agreement will replace the current SSRS, which will expire on January 1, 2007 in accordance with section 4305(a) of SAFETEA-LU.

SSRS is a State-administered registration program covering for-hire interstate motor carriers. SSRS ensures that all interstate for-hire motor carriers maintain public liability insurance at the appropriate levels and are properly authorized under 49 U.S.C. 13902 to operate. A motor carrier must choose a single participating State in which to file its SSRS application. Usually a carrier is able to select the State in which it maintains its principal place of business. However, if that State is not a participating SSRS State, the carrier must select an SSRS-participant State in which it will operate the largest number of commercial motor vehicles in its fleet during the next registration year. Regardless of how the motor carrier makes the selection, the selected State is known as the “base” State and collects fees on behalf of all the participating States in which the motor carrier operates. A Canada- or Mexico-domiciled motor carrier also must select the State in the United States which it most frequently operates as its base State for registration purposes.

Currently, 39 States participate in SSRS, and they use this registration system to generate revenues to supplement State general fund accounts and to conduct safety-related services. Historically, the for-hire motor carrier industry has complained about the cost of this program. Under section 4305 of SAFETEA-LU, Congress brokered a compromise that lowers the costs of for-hire motor carrier registration under SSRS while keeping the 39 participating States “whole” in terms of the amount of revenue they receive under SSRS. Congress accomplished this by spreading SSRS user fees to include a broader population of registrants and entities currently not required to register. By including private motor carriers, brokers, freight forwarders, leasing companies, and exempt for-hire motor carriers in the UCR Agreement, Congress lowered the registration costs for for-hire motor carriers and ensured that the SSRS States do not lose essential funding for safety services. SAFETEA-LU tasked the Board of Directors with developing an appropriate registration fee structure as well as a distribution formula for fees collected.

Title 49 U.S.C. 14504a(a)(9) defines the Unified Carrier Registration Plan as the organization of State, Federal, and industry representatives responsible for developing, implementing, and administering the UCR Agreement. Section 14504a(d)(1)(B) directed the Secretary to establish a Unified Carrier Registration Plan Board of Directors made up of 15 members representing FMCSA, State government, and the motor carrier industry. The Board also must recommend initial annual fees to be assessed against carriers, leasing companies, brokers, and freight forwarders under the UCR Agreement. The Secretary must set the initial annual fees for the next agreement year and any subsequent adjustment of those fees within 90 days of receiving the Board's recommendation and only after notice and opportunity for public comment.

Section 14504a(d) stipulates that the Unified Carrier Registration Plan Board of Directors must consist of representatives from the following groups:

U.S. Department of Transportation (the Department): One individual—either the FMCSA Deputy Administrator or such other Presidential appointee from the Department—must represent the Department.

Federal Motor Carrier Safety Administration: One director must be selected from each of the FMCSA service areas (as defined by FMCSA on January 1, 2005) from among the chief administrative officers of the State agencies responsible for administering the UCR Agreement. FMCSA has designated four Service Center areas throughout the Nation. The Eastern Service Center includes: Maine, New Hampshire, Vermont, Massachusetts, Rhode Island, Connecticut, Pennsylvania, New Jersey, New York, Maryland, Delaware, West Virginia, Virginia, Puerto Rico and the District of Columbia. The Southern Service Center includes: North Carolina, South Carolina, Tennessee, Arkansas, Oklahoma, Texas, Louisiana, Mississippi, Alabama, Georgia, Florida, and Kentucky. The Midwestern Service Center includes: Iowa, Illinois, Indiana, Kansas, Michigan, Missouri, Minnesota, Nebraska, Ohio, and Wisconsin. The Western Service Center includes: American Samoa, Alaska, Arizona, California, Colorado, Guam, Hawaii, Idaho, Montana, New Mexico, Nevada, North Dakota, Northern Mariana Islands, Oregon, South Dakota, Utah, Washington, and Wyoming.

State Agencies: The five directors selected to represent State agencies must be from among the professional staffs of State agencies responsible for overseeing the administration of the UCR Agreement and must be nominated by the National Conference of State Transportation Specialists (NCSTS), a non-profit organization founded in 1959 and consisting of State agencies involved in transportation safety, insurance and consumer protection.

Motor Carrier Industry: Five directors must represent the motor carrier industry. At least one of the five motor carrier industry representatives must be from “a national trade association representing the general motor carrier of property industry” and one of them must be from “a motor carrier that falls within the smallest fleet fee bracket.” The agency recognizes the American Trucking Associations, Inc. (ATA) as the national trade association representing the general motor carrier of property industry. ATA is a national affiliation of State trucking organizations representing the national, State and local interests of the 50 affiliated State trucking associations; and the interests of specialized areas of the trucking industry through conferences and councils. The agency has selected the Owner-Operator Independent Drivers Association (OOIDA) as the organization from which to appoint an individual to represent motor carriers comprising the smallest fleet fee bracket. OOIDA is a national trade association representing the interests of small trucking companies and drivers. The Secretary has discretion to appoint the remaining three industry representatives. In order to ensure participation on the Board by segments of the industry newly subject to the SSRS replacement system, the Secretary appoints three members as follows: (1) One member from the Transportation Intermediaries Association (TIA), (2) one member from the National Private Truck Council (NPTC), and (3) one member from Wal-Mart Stores, Inc. (Wal-Mart). TIA represents transportation intermediaries such as brokers, freight forwarders, and shippers doing business in domestic and international commerce. NPTC is a national trade association representing private motor carrier fleets. With nearly 7,000 tractors, over 40,000 trailers, and annual sales over $285 billion, Wal-Mart is the nation's largest private motor carrier.

Section 14504a(d)(1)(C) requires the Secretary to appoint a Chairperson and Vice-Chairperson of the Board; these appointments will be made at a later date.

Board of Directors

Today's action provides public notice of appointment of the Unified Carrier Registration Plan Board of Directors. In the event any of the positions become vacant prior to the term expiration, new appointments would be made in accordance with section 14504a(d)(1). Initial appointments are as listed below:

U.S. Department of Transportation. The Deputy Administrator of FMCSA will represent the Department. In the absence of a Deputy Administrator, the Secretary would appoint another such Presidential appointee from the Department to represent the agency.

Federal Motor Carrier Safety Administration. Mr. Anthony D. Portanova, Deputy Commissioner, Connecticut Department of Motor Vehicles (CTDMV) is being appointed to represent the FMCSA Eastern Service Center. Mr. Portanova has overseen the Commercial Vehicle Safety Division and the Dealers and Repairers Division since July 1999. Prior to his appointment as Deputy Commissioner, Mr. Portanova owned and operated Portanova, Inc., an intrastate and interstate transportation and warehousing company for 34 years. He retired in 1998 and became Deputy Commissioner in July 1999. In addition to responsibilities as Deputy Commissioner, Mr. Portanova serves as Project Sponsor to the Commercial Vehicle Information System Network Project, the Chairman of a Subcommittee under the Connecticut Transportation Strategy Board, and was formerly Director, Motor Transport Association of Connecticut.

Ms. Angel O. Oliver, Supervisor, Credentialing Unit, Motor Carrier Division, Texas Department of Transportation (TXDOT) is being appointed to represent the FMCSA Southern Service Center. The Motor Carrier Division is responsible for administering SSRS in Texas and providing credentials to intrastate and interstate for-hire motor carriers. Ms. Oliver has been with TXDOT for 18 years.

Ms. Ruth Sluzacek, Director of Motor Carrier Services, Iowa Motor Vehicle Division, Iowa Department of Transportation, is being appointed to represent the FMCSA Midwestern Service Center. Ms. Sluzacek has been the Director of Motor Carrier Services since 1989, and her office is responsible for issuing size and weight permits and administering the International Registration Plan (IRP), the International Fuel Tax Agreement (IFTA) licensing and quarterly fuel tax processing, and SSRS.

Mr. Frank Laqua, Administrator of Motor Carrier Services, North Dakota Department of Transportation is being appointed to represent the Western Service Center. Mr. Laqua has been with the North Dakota Department of Transportation for 19 years, serving 11 of those years as Administrator of Motor Carrier Services. As Administrator, Mr. Laqua is responsible for IFTA licensing and administering both IRP and SSRS. He currently represents North Dakota as the IRP and IFTA Commissioner.

State Agencies. NCSTS has nominated, and the Secretary has appointed, the following individuals to represent State agencies on the Board:

(1) Mr. Avelino A. Gutierrez, Staff Counsel, New Mexico Public Regulation Commission (NMPRC). Mr. Gutierrez has been with the NMPRC for over 15 years, and his main area of expertise has been in the transportation field. He served as NCSTS president from June 2003 to June 2004.

(2) Ms. Barbara Hague, Special Projects Coordinator, Missouri Department of Transportation Motor Carrier Services (MODOT). Ms. Hague has 35 years of experience in State transportation regulation, supervising the operating authority application, licensing, insurance, and tariff requirements for intrastate and interstate carriers. She implemented a paperless office system for operating authority transactions with MODOT.

(3) Mr. Dave Lazarides, Director of Processing and Information, Illinois Commerce Commission, Transportation Bureau; Program Manager, Commercial Vehicle Information Systems and Network for the State of Illinois. Mr. Lazarides played a major role in the design of the SSRS software which has been adopted by 25 other States. He also serves as a consultant to States regarding electronic commerce initiatives and acts as chairman of the Electronic Commerce Committee for NCSTS.

(4) Mr. William Leonard, Director of the Freight Compliance and Safety Bureau, New York Department of Transportation (NYDOT). Mr. Leonard's office is responsible for both the Motor Carrier Safety Assistance Program and SSRS for the State of New York. NYDOT is also responsible for the issuance of operating authority to for-hire intrastate motor carriers in the State of New York.

(5) Mr. Terry Willert, Chief, Transportation Section, Colorado Public Utility Commission (COPUC). Mr. Willert currently serves as NCSTS Treasurer and its Strategic Planning Committee Chairman. He has been with the COPUC Transportation Section for 22 years, serving as an investigator and now as Chief. COPUC is responsible for administering SSRS, permitting, and monitoring insurance and safety of for-hire motor carriers in Colorado.

Motor Carrier Industry

(1) ATA representative. Mr. Robert C. Pitcher, ATA Vice President, State Laws Division, is being appointed to represent the national trade association representing the general motor carrier of property industry. Mr. Pitcher has been involved in many aspects of motor carrier operations, regulation, registration, and taxation. He worked first at the Federation of Tax Administrators—an association of State revenue agencies—where he worked with programs of tax training and research concentrating on fuel taxes. He has been with ATA's State Laws Division for 14 years.

(2) OOIDA representative. Mr. Rick Craig, Owner Operator and Independent Driver Association, Treasurer and Director of Regulatory Affairs and the Executive Director of the OOIDA Foundation is being appointed to represent small motor carriers that fall within the smallest fleet fee bracket. Mr. Craig has more than 30 years experience in the trucking industry.

(3) Other motor carrier industry representatives. Robert A. Voltmann, Transportation Intermediaries Association, President and Chief Executive Officer, is being appointed as the third motor carrier industry representative. Mr. Voltmann has been in his current position with TIA for nine years.

Richard P. Schweitzer, National Private Truck Council, General Counsel, is being appointed as the fourth motor carrier industry representative. Mr. Schweitzer has a private practice in Washington, DC. In his capacity as General Counsel to NPTC, he represented private motor carriers in discussions leading to enactment of The Unified Carrier Registration Act of 2005, Subtitle C of Title IV of SAFETEA-LU.

Mr. Craig Sharkey, Wal-Mart, Associate General Counsel for the Logistics Division, is being appointed as the fifth motor carrier industry representative. Mr. Sharkey has served as Associate General Counsel since 2002. The Logistics Division supports the distribution, warehousing, transportation, import, global procurement, and aviation segments of Wal-Mart's business.

Board Member Term Limits

Appointees to the initial Board of Directors identified in today's notice will serve staggered term limits. Title 49 U.S.C. 14504a(d)(1)(D) granted the Secretary discretion to assign five directors to 3-year terms, five directors to 2-year terms, and five directors to 1-year terms. All successor appointees, except the FMCSA Deputy Administrator, will serve a uniform 3-year term. The FMCSA Deputy Administrator, or other individual designated by the Secretary to represent the Department, will serve at the discretion of the Secretary.

The initial term limits are designated as follows:

Three-year term. Each of the five Directors representing the motor carrier industry will serve an initial term of 3 years. FMCSA believes it is important to designate the maximum term limit for the motor carrier industry representatives because they are the group most affected by creation of the UCR Agreement and Plan. A 3-year term would ensure consistent representation on the Board by this group and provide adequate time to solicit successor nominations in the Federal Register prior to expiration of their term limits.

Two-year term. Each of the four Directors representing the FMCSA Service Center areas will serve an initial term of 2 years. A 2-year term will ensure adequate time to solicit successor nominations in the Federal Register prior to expiration of their term limits.

One-year term. Each of the five Directors representing State agencies will serve an initial term of 1 year. A 1-year term limit will allow NCSTS greater flexibility in determining who represents them, especially for the initial Board.

Issued on May 5, 2006.
Warren E. Hoemann,
Acting Administrator.

[FR Doc. E6-7236 Filed 5-11-06; 8:45 am]

BILLING CODE 4910-EX-P